ENVIRONMENTAL PROTECTION AGENCY

40 CFR Part 52

[R04-OAR-2005-TN-0006-200519(c); FRL-8023-5]

Approval and Promulgation of Implementation Plans; Tennessee; Nashville Area Second 10-Year Maintenance Plan for the 1-Hour Ozone National Ambient Air Quality Standard; Correction

AGENCY: Environmental Protection Agency (EPA).

ACTION: Final rule; correction.

SUMMARY: On November 1, 2005, at 70 FR 65838, EPA published a document concerning the Nashville, Tennessee area's second 10-year maintenance plan for the 1-hour ozone national ambient air quality standard. The new 2016 motor vehicle emissions budgets (MVEBs) were incorrectly stated in one location in the publication. This document corrects this incorrect reference.

DATES: Effective Date: This correction is effective January 23, 2006.

FOR FURTHER INFORMATION CONTACT: Lynorae Benjamin of the Air Quality Modeling and Transportation Section or Sean Lakeman of the Regulatory Development Section, Air Planning Branch, Air, Pesticides and Toxics Management Division, U.S. Environmental Protection Agency, Region 4, 61 Forsyth Street, SW., Atlanta, Georgia 30303-8960. Ms. Benjamin can be reached by phone at (404) 562-9040 or via electronic mail at benjamin.lynorae@epa.gov. Mr. Lakeman can be reached by phone at (404) 562-9043 or via electronic mail at lakeman.sean@epa.gov.

SUPPLEMENTARY INFORMATION: EPA is making a correction to the document published on November 1, 2005 (70 FR 65838), approving a revision to the second 10-year maintenance plan for the Nashville 1-Hour Ozone Maintenance Area. This action included approval of the new 2016 MVEBs (70 FR 65840), but subsequently reference them incorrectly in another portion of the document. Specifically, at 70 FR 65841, the new 2016 MVEBs were erroneously stated as the 2016 on-road emissions (i.e., 19.18 tons per day (tpd) for volatile organic compounds (VOC) and 36.01 tpd for nitrogen oxides (NOX)) for this area. On page 65841, under the heading “IV. What Is an Adequacy Determination and What Is EPA's Adequacy Determination for the Nashville Area's New MVEB for the Year 2016?,” in the second column at the end of the last sentence, EPA is correcting the reference to the 2016 MVEBs to read as follows: “ VOC of 21.93 tpd and for NOX 45.76 tpd for the Nashville area.”

Dated: January 11, 2006.
A. Stanley Meiburg,
Acting Regional Administrator, Region 4.

[FR Doc. 06-582 Filed 1-20-06; 8:45 am]

BILLING CODE 6560-50-P